DEPARTMENT OF THE INTERIOR

Minerals Management Service

Agency Information Collection Activities: Proposed Collection; Comment Request

AGENCY: Minerals Management Service (MMS), Interior.

ACTION: Notice of revision of a currently approved information collection (OMB Control Number 1010-0067).

SUMMARY: To comply with the Paperwork Reduction Act of 1995 (PRA), we are inviting comments on a collection of information that we will submit to the Office of Management and Budget (OMB) for review and approval. The information collection request (ICR) is titled “30 CFR 250, Subpart E, Oil and Gas Well-Completion Operations.”

DATES: Submit written comments by May 7, 2001.

ADDRESSES: Mail or hand-carry comments to the Department of the Interior; Minerals Management Service; Attention: Rules Processing Team; Mail Stop 4024; 381 Elden Street; Herndon, Virginia 20170-4817. If you wish to e-mail comments, the e-mail address is: rules.comments@mms.gov. Reference “Information Collection 1010-0067” in your e-mail subject line. Include your name and return address in your e-mail message and mark your message for return receipt.

Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain a copy at no cost of the regulations and Notices to Lessees and Operators (NTL) that require the subject collection of information.

SUPPLEMENTARY INFORMATION: Title: 30 CFR 250, Subpart E, Oil and Gas Well-Completion Operations

OMB Control Number: 1010-0067.

Abstract: The Outer Continental Shelf (OCS) Lands Act, 43 U.S.C. 1331 et seq., requires the Secretary of the Interior to preserve, protect, and develop oil and gas resources in the OCS; make such resources available to meet the Nation's energy needs as rapidly as possible; balance orderly energy resources development with protection of the human, marine, and coastal environment; ensure the public a fair and equitable return on resources offshore; and preserve and maintain free enterprise competition. Section 1332(6) of the OCS Lands Act (43 U.S.C. 1332) requires that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.” This authority and responsibility are among those delegated to MMS. To carry out these responsibilities, MMS issues regulations governing oil and gas and sulphur operations in the OCS. This collection of information addresses 30 CFR part 250, subpart E, Oil and Gas Well-Completion Operations.

Last year we submitted a routine ICR to the Office of Management and Budget (OMB) to renew the information collection requirements of the subpart E regulations. That approved information collection covered the paperwork burdens specifically required in § 250.517 (tubing and wellhead equipment and their requirements). This included the requirement under § 250.517(c) to notify the District Supervisor if sustained casing pressure (SCP) is observed on a well. This situation represents an ongoing safety hazard and can cause serious or immediate harm or damage to human life, the marine and coastal environment, and property.

After receiving notification, the Region directs the lessee/operator on the procedures and requirements necessary to monitor and report SCP conditions, and the process for obtaining a departure to produce wells with SCP. Because the Gulf of Mexico Region (GOMR) now has over 8,000 wells affected by SCP, the GOMR plans to issue an NTL detailing the policy and procedures on SCP. The NTL will include additional reporting and recordkeeping requirements, which we will include in our ICR to OMB on subpart E regulations.

The MMS District Supervisors analyze and evaluate the information and data collected under subpart E to ensure that planned well-completion operations will protect personnel safety and natural resources. They use the analysis and evaluation results in the decision to approve, disapprove, or require modification to the proposed well-completion operations. Specifically, MMS uses the information to ensure: (a) compliance with personnel safety training requirements; (b) crown block safety device is operating and can be expected to function to avoid accidents; (c) proposed operation of the annular preventer is technically correct and provides adequate protection for personnel, property, and natural resources; (d) well-completion operations are conducted on well casings that are structurally competent; and (e) sustained casing pressures are within acceptable limits. The MMS district and regional offices will use paperwork requirements in the new GOMR NTL to determine that production from wells with SCP continues to afford the greatest possible degree of safety under these conditions.

Responses are mandatory. No items of a sensitive nature are collected. Proprietary information respondents submit is protected according to the Freedom of Information Act (5 U.S.C. 552) and its implementing regulations (43 CFR 2), 30 CFR 250.196 (Data and information to be made available to the public), and 30 CFR part 252 (OCS Oil and Gas Information Program).

Frequency: The frequency of reporting varies by section, but is mostly “on occasion” or annual.

Estimated Number and Description of Respondents: Approximately 130 Federal OCS oil and gas or sulphur lessees.

Estimated Annual Reporting and Recordkeeping “Hour” Burden: The currently approved burden for this information collection is 5,672 hours (505 reporting and 5,167 recordkeeping hours). The paperwork requirements of the GOMR NTL will increase this burden by 3,743 hours. The following chart details the individual components of the burden and estimated burden per response or record. In calculating the burdens, we assumed that respondents perform certain requirements in the normal course of their activities. We consider these to be usual and customary and took that into account in estimating the burden.

Citation 30 CFR 250 Subpart E & NTL Sec. | Reporting & recordkeeping requirement | Hour burden per response/record
Reporting Requirements
502 | Request approval not to shut-in well during equipment movement | 1 hour.
502 (MMS condition of approval) | Notify MMS of well-completion rig movement on or off platform or from well to well on same platform | 6 minutes.
505; 513; 515(a); 516(g), (j); NTL I.C, III.B | Submit forms MMS-123, MMS-124, MMS-125 for various approvals, including remediation procedure for SCP | Burden covered under 1010-0044, 1010-0045, 1010-0046.
512 | Request field well-completion rules be established and canceled (on occasion, however, there have been no requests in many years) | 1 hour.
515(a) | Submit well-control procedure | 1 hour.
517(b) | Pressure test, caliper, or otherwise evaluate tubing & wellhead equipment casing; submit results (every 30 days during prolonged operations) | 4 hours.
517(c); NTL I, III.B | Notify MMS if sustained casing pressure is observed on a well | ¼ hour.
NTL I.A, I.E, I.G, I.H, II, III Appendix | Submit results of diagnostic tests, departure requests and supporting information, including plan of action for non-producing wells | 2 hours.
NTL I.C | Notify MMS when remediation procedure is complete | 1 hour.
NTL I.D | Appeal departure request denial | Burden covered under 30 CFR part 290, 1010-0121.
NTL Appendix | Request approval to lube and bleed remediation attempts | 10 hours.
Recordkeeping Requirements
506 | Instruct crew members in safety requirements of operations to be performed; document meeting (weekly for 2 crews x 2 weeks per completion = 4) | 10 minutes.
511 | Perform operational check of traveling-block safety device; document results (weekly × 2 weeks per completion = 2) | 6 minutes.
516 tests; 516(i) | Perform BOP pressure tests, actuations & inspections; record results; retain records 2 years following completion of well (when installed; minimum every 14 days; as stated for component) | 6 hours.
516(d)(5) test; 516(i) | Function test annulars and rams; document results (every 7 days between BOP tests—biweekly; note: part of BOP test when conducted) | .16 hour.
516(e) | Record reason for postponing BOP system tests (on occasion) | 6 minutes.
516(f) | Perform crew drills; record results (weekly for 2 crews × 2 weeks per completion = 4) | ½ hour.
NTL I.F | Retain complete record of well's casing pressure and diagnostic tests for 2 years | ¼ hour.
NTL & Appendix | Perform diagnostic tests and record results; perform follow-up tests at least annually to determine departure status | 4 hours

Estimated Annual Reporting and Recordkeeping “Non-Hour Cost” Burden: We have identified no “non-hour cost” burdens.

Comments: The PRA (44 U.S.C. 3501, et seq.) provides that an agency may not conduct or sponsor, and a person is not required to respond to, a collection of information unless it displays a currently valid OMB control number. Before submitting an ICR to OMB, PRA section 3506(c)(2)(A) requires each agency “* * * to provide notice * * * and otherwise consult with members of the public and affected agencies concerning each proposed collection of information * * *”. Agencies must specifically solicit comments to: (a) evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology. We will summarize written responses to this notice and address them in our submission for OMB approval, including any appropriate adjustments to the estimated burden.

Agencies must estimate both the “hour” and “non-hour cost” burdens to respondents or recordkeepers resulting from the collection of information. We have not identified any non-hour cost burdens for the information collection aspects of 30 CFR 250, subpart E. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. Generally, your estimates should not include equipment or services purchased: (i) before October 1, 1995; (ii) to comply with requirements not associated with the information collection; (iii) for reasons other than to provide information or keep records for the Government; or (iv) as part of customary and usual business or private practices.

MMS Information Collection Clearance Officer: Jo Ann Lauterbach, (202) 208-7744.

Dated: March 2, 2001.
E. P. Danenberger,
Chief, Engineering and Operations Division.

[FR Doc. 01-5673 Filed 3-7-01; 8:45 am]

BILLING CODE 4310-MR-P